DEPARTMENT OF DEFENSE

Office of the Secretary

[Docket ID: DoD-2022-OS-0057]

Proposed Collection; Comment Request

AGENCY: The Office of the Under Secretary of Defense for Personnel and Readiness (OUSD(P&R)), Department of Defense (DoD).

ACTION: 60-Day information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 22, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, 4800 Mark Center Drive, Suite 08F05, Alexandria, VA 22350, LaTarsha Yeargins, 571-372-2089.

SUPPLEMENTARY INFORMATION: Title; Associated Form; and OMB Number: Post-Election Voting Survey of State Election Officials; OMB Control Number 0704-PEVS.

Needs and Uses: The primary objective of the Post-Election Voting Survey of State Election Officials, conducted on behalf of the Federal Voting Assistance Program (FVAP), is to gather feedback from the state election officials (SEOs) responsible for administering the Uniformed and Overseas Citizens Absentee Voting Act (UOCAVA) on behalf of the military and overseas voters. This customer service focused survey will help FVAP understand how it can best engage election officials and identify areas where its processes can be improved. This ongoing evaluation will help determine the extent to which FVAP is achieving its mission and what actions FVAP might be able to take in the future to improve its products and services. Conducting this research will help FVAP meet its federal and congressional mandates in terms of ensuring that UOCAVA voters are receiving adequate support from state officials in the registration and voting process for federal elections. The data obtained through this study is also intended to provide insights into existing barriers to UOCAVA voting and recommendations for addressing these challenges. To obtain the necessary information, the Post-Election Voting Survey of State Election Officials project will use data collected from the population of SEOs from all 50 U.S. States, the District of Columbia, and the four U.S. territories covered under UOCAVA: Puerto Rico, Guam, American Samoa, and the U.S. Virgin Islands.

Affected Public: Individuals or households.

Annual Burden Hours: 13.75 hours.

Number of Respondents: 55.

Responses per Respondent: 1.

Annual Responses: 55.

Average Burden per Response: 15 minutes.

Frequency: Biennially.

Dated: May 17, 2022.
Aaron T. Siegel,
Alternate OSD Federal Register Liaison Officer, Department of Defense.

[FR Doc. 2022-11046 Filed 5-20-22; 8:45 am]

BILLING CODE 5001-06-P